DEPARTMENT OF TRANSPORTATION

Federal Aviation Administration

Research, Engineering and Development (R, E&D) Advisory Committee

AGENCY: Federal Aviation Administration, DOT.

ACTION: Notice of meeting.

Pursuant to section 10(A)(2) of the Federal Advisory Committee Act (Pub. L. 92-463; 5 U.S.C. App. 2), notice is hereby given of a meeting of the FAA Research, Engineering and Development (R, E&D) Advisory Committee.

Name: Research, Engineering & Development Advisory Committee.

Time and Date: October 30—9 a.m.-5 p.m., October31—10 a.m.-5 p.m.

Place: Holiday Inn Rossyln Westpark Hotel, 1900 North Forth Myer Drive, Arlington, Virginia 2209.

Purpose: On October 30 from 9 a.m.-5 p.m. and October 31 from 10 a.m.-12 noon the meeting agenda will include receiving guidance from the Committee for FAA's research and development investments in the areas of air traffic services, airports, aircraft safety, security, human factors and environment and energy. A joint session will be held on October 31 from 1 p.m. to 5 p.m. with NASA's Aerospace Technology Advisory Committee. The planned agenda includes briefings on NASA's Blueprint for Aeronautics, a budget synopsis by both NASA and FAA, and a discussion on issues and activities that impact both groups.

Attendance is open to the interested public but limited to space available. Persons wishing to attend the meeting or obtain information should contact Gloria Dunderman at the Federal Aviation Administration, AAR-200, 800 Independence Avenue, SW., Washington, DC 20591 (202) 267-8937.

Members of the public may present a written statement to the Committee at any time.

Issued in Washington, DC, on October 9, 2001.
Herman A. Rediess,
Director, Office of Aviation Research.

[FR Doc. 01-25757 Filed 10-11-01; 8:45 am]

BILLING CODE 4910-13-M